DEPARTMENT OF THE INTERIOR

Fish and Wildlife Service

[FWS-R8-R-2008-N0064; 80230-1265-0000-S3]

Desert National Wildlife Refuge Complex, Clark, Lincoln, and Nye Counties, NV

AGENCY: Fish and Wildlife Service, Interior.

ACTION: Notice of availability; request for comments: draft comprehensive conservation plan/environmental impact statement.

SUMMARY: We, the U.S. Fish and Wildlife Service (Service), announce the availability of a Draft Comprehensive Conservation Plan/Environmental Impact Statement (CCP/EIS) for the Desert National Wildlife Refuge Complex for public review and comment. The Desert National Wildlife Refuge Complex is composed of Ash Meadows National Wildlife Refuge, Desert National Wildlife Refuge, Moapa Valley National Wildlife Refuge and Pahranagat National Wildlife Refuge. The CCP/EIS, prepared pursuant to the National Wildlife Refuge System Improvement Act of 1997, and in accordance with the National Environmental Policy Act of 1969, describes how the Service will manage the Refuges for the next 15 years. Draft compatibility determinations for several existing and proposed public uses are also available for review and public comment with the Draft CCP/EIS.

DATES: Written comments must be received at the address below on or before September 9, 2008.

ADDRESSES: For more information on obtaining documents and submitting comments, see “Review and Comment” under SUPPLEMENTARY INFORMATION. For public meeting location see “Public Meetings.”

FOR FURTHER INFORMATION CONTACT: Cynthia Martinez, Project Leader, U.S. Fish and Wildlife Service, 4701 North Torrey Pines, Las Vegas, NV 89130, phone (702) 515-5450 or Mark Pelz, Chief, Refuge Planning, 2800 Cottage Way, W-1832, Sacramento, CA 95825, phone (916) 414-6504.

SUPPLEMENTARY INFORMATION: The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation.

We initiated the CCP/EIS for the Desert National Wildlife Refuge Complex in August 2002. At that time and throughout the process, we requested, considered, and incorporated public scoping comments in numerous ways. Our public outreach has included a Federal Register notice of intent published on August 21, 2002, agency and Tribal scoping meetings, five public workshops, planning updates, and a CCP Web page. We received over 400 scoping comments during the 60-day public comment period.

Background

Ash Meadows Refuge was established in 1984 under the authority of the Endangered Species Act of 1973, as amended. It comprises 23,000 acres of spring-fed wetlands, mesquite bosques, and desert uplands that provide habitat for at least 24 plants and animal species found nowhere else in the world. The Refuge is located 90 miles northwest of Las Vegas and 30 miles west of Pahrump.

Desert Refuge was originally established in 1936 by Executive Order No. 7373 and subsequently modified by Public Land Order 4079, for the protection, enhancement and maintenance of wildlife resources including bighorn sheep. Located just north of Las Vegas, Nevada, the 1.6 million acre refuge is the largest National Wildlife Refuge in the lower 48 states.

The Moapa Valley Refuge was established September 10, 1979, under the authority of the Endangered Species Act of 1969, as amended, to secure habitat for the endangered Moapa dace. The Refuge is located on 116 acres in northeastern Clark County. Due to its small size, fragile habitats, on-going habitat restoration work, and unsafe structures, the Refuge is currently closed to the general public.

The Pahranagat Refuge was established in 1963, under the authority of the Migratory Bird Conservation Act, as amended, to protect habitat for migrating birds in the Pahranagat Valley. The 5,382-acre refuge consists of marshes, meadows, lakes, and upland desert habitat. It provides nesting, resting, and feeding areas for waterfowl, shorebirds, wading birds, and song birds including the endangered southwestern willow flycatcher.

Alternatives

The Draft CCP/EIS identifies and evaluates three alternatives for managing Ash Meadows and Moapa Valley Refuges and four alternatives for managing Desert and Pahranagat Refuges for the next 15 years. The alternative for each Refuge that appears to best meet the refuge purposes is identified as the preferred alternative. The preferred alternatives were identified based on the analysis presented in the Draft CCP/EIS, which may be modified following the completion of the public comment period based on comments received from other agencies, Tribal governments, non-governmental organizations, or individuals.

Alternatives for Ash Meadows National Wildlife Refuge

Under Alternative A, the no action alternative, we would continue to manage the Refuge as we have in the past. We would implement habitat restoration plans that have already been completed. No major changes in habitat management would occur. The existing wildlife observation, photography, environmental education, and interpretation programs would remain unchanged.

Under Alternative B, we would plan and implement springhead, channel, and landscape restoration on about two thirds of the Refuge. Surveys and monitoring for special status species would be expanded as would efforts to control invasive plants and animals. Environmental education, interpretation and wildlife observation opportunities would be improved and expanded and a new visitor contact station and headquarters facility would be constructed.

Under the preferred alternative, Alternative C, we would seek to restore springheads, channels and floodplains throughout the Refuge. Surveys and monitoring, habitat protection, pest management, and research would also be substantially expanded. Environmental education, interpretation, and wildlife observation programs would be similar to but slightly less than Alternative B.

Alternatives for the Desert National Wildlife Refuge

Under Alternative A, the no action alternative, we would continue current management for bighorn sheep and other species. We would also continue to offer limited opportunities for wildlife observation and photography, environmental education, and interpretation at Corn Creek. Existing backcountry recreation opportunities would continue to be offered including bighorn sheep hunting, hiking, camping, horseback riding, and backpacking. In addition, under this and all other alternatives, we would design and construct a visitor center and administrative offices at Corn Creek and continue to protect the wilderness character of the 1.4 million acre proposed Desert Wilderness.

Under Alternative B, wildlife management programs would be similar to Alternative A, with minor improvements, including expanded surveys for bighorn sheep and installation of post and cable fencing along the southern boundary. This alternative would also include a substantial expansion in visitor services over Alternative A, including a new environmental education program, improved roads, a new auto tour route, and new wildlife viewing trails.

Under the preferred alternative, Alternative C, we would expand inventory and monitoring for bighorn sheep, special status species, and vegetation and wildlife communities throughout the Refuge. Under this alternative, we would also use prescribed fire and naturally ignited fires in Refuge plant communities where appropriate to restore vegetation characteristics representative of a natural fire regime. Alternative C would also include fencing along the eastern boundary as well as the permanent closure of illegal roads and rehabilitation of damaged habitat along the southern and eastern boundaries. Visitor services under this alternative would be the same as under Alternative B except no auto tour route or wildlife viewing trails would be developed.

Under Alternative D, the wildlife management and inventory and monitoring programs would be similar to Alternative C. However, under this alternative, visitor services would be scaled back from the other alternatives. For example, the visitor center would only be staffed on weekends during the off-peak seasons and there would be no road improvements on the Refuge.

Alternatives for Moapa Valley National Wildlife Refuge

Under Alternative A, the no action alternative, we would continue to manage the Refuge as we have in the recent past. Springhead and channel restoration work and visitor facilities on the Plummer Unit would be completed. The limited inventory and monitoring program would also continue. However, the Refuge would remain closed to the public, except by special arrangement.

Under Alternative B, wildlife management programs would be similar to Alternative A, with minor improvements, including expanded surveys for sensitive species and their habitats, and strategies for removing nonnative aquatic species. We would also restore native vegetation along the springheads and channels on the Pederson Unit. This alternative would also include a substantial expansion in visitor services over Alternative A, including opening the Refuge on weekends and improved visitor facilities.

Under the preferred alternative, Alternative C, wildlife management would be similar to Alternative B but would include increased monitoring and the development of a long term inventory and monitoring plan for sensitive species. In addition, we would restore the springheads and channels and associated native vegetation on the Apcar unit. Under Alternative C, we would expand the Refuge acquisition boundary by 1,503 acres and pursue acquisition of the lands within the boundary to protect habitat for Moapa dace and other sensitive species. Under this alternative, the Refuge would be open to visitors every day, the environmental education program would be expanded, and additional trails would be constructed.

Alternatives for Pahranagat National Wildlife Refuge

Under Alternative A, the no action alternative, we would continue to manage Pahranagat Refuge as we have in the recent past. The in-progress hydrology studies would be completed and a wetland habitat management plan would be developed and implemented. Riparian habitat would be maintained for the southwestern willow flycatcher and other migratory birds. Under this alternative, we would maintain the fishing, hunting, wildlife observation, and environmental education and interpretation opportunities on the Refuge. The campground would be maintained in its current state.

Under Alternative B, we would expand wildlife management and visitor services on the Refuge. We would develop 40 acres of foraging habitat for sandhill cranes and waterfowl. Wildlife surveys and efforts to control invasive plants would be expanded and a new refugium for the Pahranagat roundtail chub would be developed. The visitor contact station would be expanded and a new interpretive kiosk would be developed. In addition, we would make a small reduction in the hunt area to reduce potential conflicts with other refuge uses. The campground would also be maintained, but fees would be charged and the maximum length of stay would be reduced from fourteen to seven days.

Under Alternative C, management would be similar to Alternative B, with the following exceptions. We would restore 200 acres of riparian habitat between Upper Pahranagat Lake and Middle Marsh and develop and implement restoration plans for degraded springs on the Refuge. In addition, a new visitor contact station, interpretive walking trail, and photo blind would also be developed. Under this alternative, we would convert the campground to a day use area.

Under the preferred alternative, Alternative D, management would be similar to Alternative C, except we would seek to acquire additional water rights for the Refuge to provide more flexibility in wetland management. Also, we would restore an additional 5-10 acres of riparian habitat and expand the surveying and monitoring programs under this alternative. Visitor services would be similar to Alternative C except we would convert the campground to a walk-in day use area.

Public Meetings

The locations, dates, and times of public meetings will be listed in a planning update distributed to the project mailing list and posted on the Refuge Complex Web site at http://www.fws.gov/desertcomplex/.

Review and Comment

Copies of the Draft CCP/EIS may be obtained by writing to the U.S. Fish and Wildlife Service, Attn: Mark Pelz, CA/NV Refuge Planning Office, 2800 Cottage Way, W-1832, Sacramento, CA 95825-1846. Copies of the Draft CCP/EIS may be viewed at this address or at the Desert National Wildlife Refuge Complex, 4701 North Torrey Pines, Las Vegas, NV 89130. The Draft CCP/EIS will also be available for viewing and downloading online at http://www.fws.gov/desertcomplex/publicreview.htm.

Comments on the Draft CCP/EIS should be addressed to: Mark Pelz, Chief, Refuge Planning, 2800 Cottage Way, W-1832, Sacramento, CA 95825-1846. Comments may also be faxed to (916) 414-6497 or if you choose to submit comments via electronic mail, visit http://www.desertcomplex.fws.gov and use the “Guest Mailbox” provided at that site.

At the end of the review and comment period for this Draft CCP/EIS, comments will be analyzed by the Service and addressed in the Final CCP/EIS. Before including your address, phone number, e-mail address, or other personal identifying information in your comment, you should be aware that your entire comment—including your personal identifying information—may be made publicly available at any time. While you can ask us in your comment to withhold your personal identifying information from public review, we cannot guarantee that we will be able to do so.

Dated: July 2, 2008.
Ken McDermond,
Acting Regional Director, California and Nevada Region, Sacramento, California.

[FR Doc. E8-15631 Filed 7-10-08; 8:45 am]

BILLING CODE 4310-55-P